DEPARTMENT OF HOUSING AND URBAN DEVELOPMENT

[Docket No. 4837-D-47]

Redelegation of Authority to the General Counsel Regarding Authority To Initiate Civil Money Penalty Actions Under Certain Civil Money Penalty Regulations and To Issue Notice of Violation of a Regulatory Agreement and Notice of Default of a Housing Assistance Payments Contract

AGENCY: Office of the Assistant Secretary for Housing-Federal Housing Commissioner, HUD.

ACTION: Notice.

SUMMARY: On August 20, 2003, HUD's Assistant Secretary for Housing-Federal Housing Commissioner published a notice that redelegated certain authority to other HUD officials, including HUD's General Counsel. In this notice, the Assistant Secretary for Housing clarifies and supplements the authority redelegated to the General Counsel in the August 20, 2003, notice.

EFFECTIVE DATE: March 5, 2004.

FOR FURTHER INFORMATION CONTACT: Eliot C. Horowitz, Senior Advisor to the Assistant Secretary for Housing-Federal Housing Commissioner, Office of Housing, Department of Housing and Urban Development, Room 9110, 451 Seventh Street, SW., Washington, DC 20410, phone (202) 708-0614, extension 2125. This is not a toll free number. For persons with hearing or speech impairments, the number may be accessed by TYY calling the Federal Information Relay Service at 1-800-877-8339.

SUPPLEMENTARY INFORMATION: In administering HUD's housing and section 8 housing assistance payments programs, the Assistant Secretary for Housing-Federal Housing Commissioner has authority to issue a notice of violation of a regulatory agreement on a HUD multifamily housing project or property, and a notice of default of a housing assistance payments contract. The Assistant Secretary for Housing also has authority to impose civil money penalties for certain contractual violations and for violations of certain program requirements.

On August 20, 2003, the Assistant Secretary for Housing published a redelegation of authority (68 FR 50173-50174) that redelegated to HUD's General Counsel the authority to issue a notice of violation of a regulatory agreement and a notice of default of a housing assistance payments contract. The preamble to that redelegation of authority explained the process by which such notices are issued and described the consequences that may result when regulatory agreement violations and housing assistance payments contract defaults are not remedied. The August 20, 2003, notice also redelegated authority to the General Counsel to take all available actions under civil money penalty regulations at 24 CFR 30.45, 30.36, and 30.68.

Since the redelegation of authority was published on August 20, 2003, it was determined that certain language may have been better stated for clarity purposes to clearly reflect that the General Counsel has been redelegated authority described above. To clarify any ambiguity as to the nature of the authority that has been redelegated, the Assistant Secretary for Housing is issuing this redelegation. The authority redelegated to the General Counsel herein may be further redelegated.

Accordingly, the Assistant Secretary for Housing-Federal Housing Commissioner hereby retains and redelegates authority as follows:

Section A. Redelegation of Authority: Authority is redelegated to the General Counsel to issue a notice of violation under the terms of a regulatory agreement and a notice of default under the terms of a housing assistance payments contract. Authority is redelegated to the General Counsel to take all actions permitted under 24 CFR 30.45, 30.36, and 30.68.

Section B. Further Redelegation: The General Counsel is authorized to redelegate the authority described in Section A.

Section C. Authority Excepted: The authority redelegated does not include authority to waive any regulations issued under the authority of the Assistant Secretary for Housing-Federal Housing Commissioner.

Section D. Revocation of Authority: The Assistant Secretary for Housing-Federal Housing Commissioner may revoke the authority authorized herein, in whole or in part, at any time.

Authority: Section 7(d) of the Department of Housing and Urban Development Act (42 U.S.C. 3535(d)).
Dated: March 5, 2004.
John C. Weicher,
Assistant Secretary-Federal Housing Commissioner.

[FR Doc. 04-5602 Filed 3-11-04; 8:45 am]

BILLING CODE 4210-27-P